INTERNATIONAL TRADE COMMISSION

Sunshine Act Meeting

AGENCY HOLDING THE MEETING: United States International Trade Commission.

DATE AND TIME: January 18, 2001 at 2 p.m.

PLACE: Room 101, 500 E Street, SW., Washington, DC 20436, Telephone: (202) 205-2000.

STATUS: Open to the public.

MATTERS TO BE CONSIDERED: 1. Agenda for future meeting: None.

2. Minutes.

3. Ratification List.

4. Inv. Nos. 731-TA-865-867 (Final) (Stainless Steel Butt-Weld Pipe Fittings from Italy, Malaysia, and the Philippines)—briefing and vote. (The Commission is currently scheduled to transmit its determination and commissioners' opinions to the Secretary of Commerce on January 29, 2001.)

5. Outstanding action jackets: (1.) Document No. INV-00-223: Approved of final report in Inv. No. TA-204-3 (Lamb Meat).

In accordance with Commission policy, subject matter listed above, not disposed of at the scheduled meeting, may be carried over to the agenda of the following meeting.

By order of the Commission.
Issued: January 9, 2001.
Donna R. Koehnke,
Secretary.

[FR Doc. 01-1204 Filed 1-10-01; 2:15 am]

BILLING CODE 7020-02-M